DEPARTMENT OF TRANSPORTATION

Federal Aviation Administration

14 CFR Part 39

[Docket No. FAA-2014-0929; Directorate Identifier 2014-NM-118-AD; Amendment 39-18274; AD 2015-19-12]

RIN 2120-AA64

Airworthiness Directives; The Boeing Company Airplanes

AGENCY: Federal Aviation Administration (FAA), DOT.

ACTION: Final rule.

SUMMARY: We are adopting a new airworthiness directive (AD) for certain The Boeing Company Model 767 airplanes. This AD was prompted by reports that six fasteners may not have been installed in the left and right stringer 37 (S-37) between body stations (BS) 428 and 431 lap splices on certain airplanes. This AD requires a general visual inspection of S-37 lap splices for missing fasteners, and all applicable related investigative and corrective actions. We are issuing this AD to detect and correct missing fasteners, which could result in cracks in the fuselage skin that could adversely affect the structural integrity of the airplane.

DATES: This AD is effective November 3, 2015.

The Director of the Federal Register approved the incorporation by reference of a certain publication listed in this AD as of November 3, 2015.

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2014-0929.

Examining the AD Docket

You may examine the AD docket on the Internet at http://www.regulations.gov by searching for and locating Docket No. FAA-2014-0929; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Wayne Lockett, Aerospace Engineer, Airframe Branch, ANM-120S, FAA, Seattle Aircraft Certification Office (ACO), 1601 Lind Avenue SW., Renton, WA 98057-3356; phone: 425-917-6447; fax: 425-917-6590; email: Wayne.Lockett@faa.gov.

SUPPLEMENTARY INFORMATION:

Discussion

We issued a notice of proposed rulemaking (NPRM) to amend 14 CFR part 39 by adding an AD that would apply to certain The Boeing Company Model 767 airplanes. The NPRM published in the Federal Register on December 29, 2014 (79 FR 77970). The NPRM was prompted by reports that six fasteners may not have been installed in the left and right S-37 between BS 428 and 431 lap splices on certain airplanes. The NPRM proposed to require a general visual inspection of S-37 lap splices for missing fasteners, and all applicable related investigative and corrective actions. We are issuing this AD to detect and correct missing fasteners, which could result in cracks in the fuselage skin that could adversely affect the structural integrity of the airplane.

Comments

We gave the public the opportunity to participate in developing this AD. The following presents the comments received on the NPRM (79 FR 77970, December 29, 2014) and the FAA's response to each comment.

Support for the NPRM (79 FR 77970, December 29, 2014)

Boeing and Debra Abdou supported the NPRM (79 FR 77970, December 29, 2014). FedEx Express explained that the NPRM will not impact them. United Airlines stated that it has no comment on the NPRM.

Request for Credit for Previous Actions

United Parcel Service (UPS) requested that we revise the NPRM (79 FR 77970, December 29, 2014), to clarify that no further actions are required for airplanes that have previously accomplished inspections and corrective actions as specified in Boeing Message TBC-UPS-13-0004-01B (Service Request 1-2412169241), dated February 1, 2013.

UPS explained that, prior to the release of Boeing Alert Service Bulletin 767-53A0251, dated August 7, 2013, Boeing had released Boeing Fleet Team Digest article 767-FTD-53-12003, dated September 21, 2012; and Boeing Message TBC-UPS-13-0004-01B (Service Request 1-2412169241), dated February 1, 2013; to address the discrepant condition and provide applicable corrective actions. UPS stated that it has previously accomplished inspections and corrective actions on all affected UPS Model 767-300F series airplanes in accordance with Boeing Fleet Team Digest article 767-FTD-53-12003 dated September 21, 2012, and Boeing Message TBC-UPS-13-0004-01B (Service Request 1-2412169241), dated February 1, 2013. Per Boeing Message TBC-UPS-13-0004-01B (Service Request 1-2412169241), dated February 1, 2013, the following corrective actions are to be accomplished prior to further flight if the affected fasteners are found missing:

• Remove the center row and adjacent fasteners around the missing fastener locations.

• Perform open-hole high frequency eddy current (HFEC) inspection for damages.

• If no damage is found, install BACR15FV6KE* rivets per the Boeing installation drawing.

• If damage is found, repair per the service repair manual section defined in the future service bulletin.

UPS reasoned that, as indicated in Boeing Message TBC-UPS-13-0004-01B (Service Request 1-2412169241), dated February 1, 2013, the additional detailed inspection shown in Figure 2, Step 1, of Boeing Alert Service Bulletin 767-53A0251, dated August 7, 2013, is not required to detect damages resulting from the discrepant condition. UPS expressed that, as supported by Boeing Message TBC-UPS-13-0004-01B (Service Request 1-2412169241), dated February 1, 2013, the open-hole HFEC inspection is sufficient for detecting and eliminating damage resulting from the identified unsafe condition. UPS pointed out that standard maintenance procedures ensure that the external and internal areas accessed and disturbed during accomplishment of the repair are restored to normal configuration. Furthermore, UPS explained that supplemental internal and external inspections of the affected area are accomplished per UPS maintenance program as specified in Boeing Maintenance Planning Document Items 53-460-00, 53-648-00, 53-800-00, and 53-820-00.

We disagree to provide credit for certain actions required by this AD if those actions were performed before the effective date of this AD using Boeing Message TBC-UPS-13-0004-01B (Service Request 1-2412169241) dated February 1, 2013. It is possible that individual instructions provided to the specific operator via Boeing Message TBC-UPS-13-0004-01B (Service Request 1-2412169241), dated February 1, 2013, may have different instructions than those specified in the Accomplishment Instructions of Boeing Alert Service Bulletin 767-53A0251, dated August 7, 2013. However, under the provisions of paragraph (i) of this AD, we will consider requests for approval of credit for certain actions if sufficient data are submitted to substantiate that the change would provide an acceptable level of safety. We have made no changes to this AD in this regard.

Effect of Winglets on AD

Aviation Partners Boeing stated that accomplishing the supplemental type certificate (STC) ST01920SE (http://rgl.faa.gov/Regulatory_and_Guidance_Library/rgstc.nsf/0/59027f43b9a7486e86257b1d006591ee/$FILE/ST01920SE.pdf) does not affect the actions specified in the NPRM (79 FR 77970, December 29, 2014). We concur with the commenter. We have redesignated paragraph (c) of the proposed AD as paragraph (c)(1) and added new paragraph (c)(2) to this AD to state that installation of STC ST01920SE does not affect the ability to accomplish the actions required by this final rule. Therefore, for airplanes on which STC ST01920SE is installed, a “change in product” alternative method of compliance (AMOC) approval request is not necessary to comply with the requirements of 14 CFR 39.17.

Related Service Information Under 1 CFR Part 51

Boeing has issued Boeing Alert Service Bulletin 767-53A0251, dated August 7, 2013. The service information describes procedures for an external general visual inspection of the S-37 lap splice for missing fasteners, detailed and open-hole inspections of the skin for any crack, corrosion, or other discrepancy; determining if the crack, corrosion, or other discrepancy is within the repair limits, and repairing. This service information is reasonably available because the interested parties have access to it through their normal course of business or by the means identified in the ADDRESSES section of this AD.

Conclusion

We reviewed the relevant data, considered the comments received, and determined that air safety and the public interest require adopting this AD with the changes described previously and minor editorial changes. We have determined that these minor changes:

• Are consistent with the intent that was proposed in the NPRM (79 FR 77970, December 29, 2014) for correcting the unsafe condition; and

• Do not add any additional burden upon the public than was already proposed in the NPRM (79 FR 77970, December 29, 2014).

Costs of Compliance

We estimate that this AD affects 23 airplanes of U.S. registry.

We estimate the following costs to comply with this AD:

Estimated Costs
Action | Labor cost | Parts cost | Cost per product | Cost on U.S. operators
General visual inspection | 1 work-hour × $85 per hour = $85 | $0 | $85 | $1,955

We estimate the following costs to do any necessary inspections/installations that would be required based on the results of the required inspection. We have no way of determining the number of aircraft that might need these inspections/installations:

On-Condition Costs
Action | Labor cost | Parts cost | Cost per product
Detailed and HFEC inspections and fastener installation | 13 work-hours × $85 per hour = $1,105 | * | $1,105
* All parts that are required are supplied by the operator. This cost is minimal, and we have no way to determine what the operators would pay for these parts.

We have received no definitive data that would enable us to provide cost estimates for the repairs specified in this AD.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-19-12 The Boeing Company: Amendment 39-18274; Docket No. FAA-2014-0929; Directorate Identifier 2014-NM-118-AD.

(a) Effective Date

This AD is effective November 3, 2015.

(b) Affected ADs

None.

(c) Applicability

(1) This AD applies to The Boeing Company Model 767-200, -300, -300F, and -400ER series airplanes, certificated in any category, as identified in Boeing Alert Service Bulletin 767-53A0251, dated August 7, 2013.

(2) Installation of Supplemental Type Certificate (STC) [ST01920SE (http://rgl.faa.gov/Regulatory_and_Guidance_Library/rgstc.nsf/0/59027f43b9a7486e86257b1d00659v1ee/$FILE/ST01920SE.pdf) does not affect the ability to accomplish the actions required by this AD. Therefore, for airplanes on which STC ST01920SE is installed, a “change in product” alternative method of compliance (AMOC) approval request is not necessary to comply with the requirements of 14 CFR 39.17.

(d) Subject

Air Transport Association (ATA) of America Code 53, Fuselage.

(e) Unsafe Condition

This AD was prompted by reports that six fasteners may not have been installed in the left and right stringer 37 (S-37) between body stations (BS) 428 and 431 lap splices on certain airplanes. We are issuing this AD to detect and correct missing fasteners, which could result in cracks in the fuselage skin that could adversely affect the structural integrity of the airplane.

(f) Compliance

Comply with this AD within the compliance times specified, unless already done.

(g) Inspections, Related Investigative Actions, and Corrective Actions

Except as provided by paragraph (h)(2) of this AD, at the applicable time specified in paragraph 1.E., “Compliance,” of Boeing Alert Service Bulletin 767-53A0251, dated August 7, 2013: Do an external general visual inspection of the S-37 lap splice for missing fasteners, and do all applicable related investigative and corrective actions, in accordance with the Accomplishment Instructions of Boeing Alert Service Bulletin 767-53A0251, dated August 7, 2013, except as provided by paragraph (h)(1) of this AD. Do all applicable related investigative and corrective actions before further flight.

(h) Exceptions to Service Information Specifications

(1) Although Boeing Alert Service Bulletin 767-53A0251, dated August 7, 2013, specifies to contact Boeing for repair instructions, and specifies that action as “RC” (Required for Compliance), this AD requires repair before further flight using a method approved in accordance with the procedures specified in paragraph (i)(1) of this AD.

(2) Where Paragraph 1.E., “Compliance,” of Boeing Alert Service Bulletin 767-53A0251, dated August 7, 2013, specifies a compliance time “after the original issue date of this service bulletin,” this AD requires compliance within the specified compliance time after the effective date of this AD.

(i) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane and the approval must specifically refer to this AD.

(4) Except as required by paragraph (h)(1) of this AD: For service information that contains steps that are labeled as Required for Compliance (RC), the provisions of paragraphs (i)(4)(i) and (i)(4)(ii) of this AD apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(j) Related Information

For more information about this AD, contact Wayne Lockett, Aerospace Engineer, Airframe Branch, ANM-120S, FAA, Seattle ACO, 1601 Lind Avenue SW., Renton, WA 98057-3356; phone: 425-917-6447; fax: 425-917-6590; email: Wayne.Lockett@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 767-53A0251, dated August 7, 2013.

(ii) Reserved.

(3) For Boeing service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on September 11, 2015.
Michael Kaszycki,
Acting Manager, Transport Airplane Directorate, Aircraft Certification Service.

[FR Doc. 2015-24146 Filed 9-28-15; 8:45 am]

BILLING CODE 4910-13-P